DEPARTMENT OF TRANSPORTATION

Federal Aviation Administration

Seventeenth RTCA SC-209 Plenary Session Joint With EUROCAE WG49

AGENCY: Federal Aviation Administration, U.S. Department of Transportation.

ACTION: Seventeenth RTCA SC-209 Plenary Session Joint with EUROCAE WG49.

SUMMARY: The FAA is issuing this notice to advise the public of a meeting of Seventeenth RTCA SC-209 Plenary Session Joint with EUROCAE WG49.

DATES: The meeting will be held October 26, 2017 9:00 a.m.-5:00 p.m.

ADDRESSES: The meeting will be held at: Boeing—Longacres 25-01 Building, 1301 SW 16th Street, Renton, WA 98055.

FOR FURTHER INFORMATION CONTACT: Albert Secen at asecen@rtca.org or 202-330-0647, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Seventeenth RTCA SC-209 Plenary Session Joint with EUROCAE WG49. The agenda will include the following:

1. Host and Co-Chairs Welcome, Introductions, and Remarks

2. Review of Meeting Agenda

3. Review and Approval of the Minutes From Meeting #16 of SC-209

4. WG-1—ATCRBS/Mode S Transponder

a. Status of MOPS Revisions

5. EUROCAE WG-49—SSR Mode S Transponders

a. Status of MOPS Revisions

b. Update on European Activity

6. Other Business

7. Date, Place, and Time of Future Meetings

8. Review of Action Items

9. Adjournment

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 4, 2017.
Mohannad Dawoud,
Management & Program Analyst, Partnership Contracts Branch, ANG-A17, NextGen, Procurement Services Division, Federal Aviation Administration.

[FR Doc. 2017-21716 Filed 10-6-17; 8:45 am]

BILLING CODE 4910-13-P